DEPARTMENT OF THE INTERIOR

Bureau of Land Management

[BLM_ID_FRN_MO4500171485]

Notice To Establish a Recreation Fee Area and Collect Fees on Public Lands Managed by the Owyhee Field Office, Idaho

AGENCY: Bureau of Land Management, Interior.

ACTION: Notice of recreation fee.

SUMMARY: Pursuant to the Federal Lands Recreation Enhancement Act (FLREA), the Bureau of Land Management (BLM), Owyhee Field Office will establish a fee area and intends to collect fees at the Jump Creek Recreation Site in Owyhee County, Idaho.

DATES: Comments on the proposed fee area and fees must be received or postmarked by December 7, 2023 and must include the commenter's legible full name and address. Comments received after the close of the comment period or delivered to an address other than the one listed in this notice may not be considered or included in the administrative record for the proposal. Starting May 7, 2024, the BLM will have the option to initiate the proposed fees, unless the BLM publishes a Federal Register notice to the contrary.

ADDRESSES: Copies of relevant supporting documents for this action may be reviewed at the BLM Owyhee Field Office, 101 S. Bruneau Hwy., Marsing, ID 83639; or the BLM Boise District Office, 3948 Development Ave., Boise, ID 83705 and online at: https://on.doi.gov/3qfe3I0. Comments may be submitted either by email to BLM_ID_OwyheeOffice@blm.gov; or by U.S. Postal Mail to BLM Owyhee Field Office, 101 S Bruneau Hwy., Marsing, ID 83639.

FOR FURTHER INFORMATION CONTACT: Ryan Homan, outdoor recreation planner, BLM Owyhee Field Office, email: BLM_ID_OwyheeOffice@blm.gov; telephone: (208) 896-5912. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM is committed to provide and receive fair value for the use of developed recreation facilities and services in a manner that meets public use demands, provides quality experiences, and protects important resources. The BLM's policy is to collect fees at specialized recreation sites, or where the BLM provides facilities, equipment, or services, at Federal expense, in connection with outdoor use. To meet increasing demands for services and maintenance at Jump Creek Recreation Site, the BLM will establish a fee program for recreation site use. This fee site proposal addresses facility maintenance and public safety needs due to increased use and costs of operation. The fees will also enable the BLM to improve services, add amenities desired by visitors, and help offset costs incurred by Owyhee County for increased law enforcement patrols and search and rescue efforts. The proposed fees are a $5 per vehicle day-use fee, or a $25 annual pass, which would begin no earlier than spring 2024.

People holding an America the Beautiful—The National Parks and Federal Recreational Lands pass are granted a 100 percent discount for standard amenity fees.

The FLREA directs the Secretary of the Interior and Secretary of Agriculture to publish an advance notice in the Federal Register whenever new recreation fee areas are established under their respective jurisdictions. In accordance with BLM policy, the Jump Creek Recreation Site Business Plan explains the fee collection process and how fees will be used at this site. The BLM Idaho Resource Advisory Council, functioning as a Recreation Resource Advisory Committee, reviewed the proposal to charge fees at Jump Creek Recreation Site in August 2021, following the FLREA guidelines. Fee amounts will be posted on-site and at the BLM Owyhee Field Office. Copies of the business plan will be available at the BLM Owyhee Field Office and BLM Boise District Office as listed in the ADDRESSES section. Any future adjustments in the fee amount will be made following the Jump Creek Recreation Site Business Plan and after consultation with the Idaho Resource Advisory Council and other public notice.

The Jump Creek Recreation Site is identified in the 1998 BLM Owyhee Resource Management Plan and was analyzed in the Environmental Impact Statement accompanying the plan (EIS ID-B030-1989-0001). Recreation use fees would be consistent with other established fee sites in the area managed by the BLM and other Federal and state land management agencies.

The BLM welcomes public comments on this proposal. Before including your address, phone number, email address, or other personal identifying information in your comment, be advised that your entire comment-including your personal identifying information-may be made publicly available at any time. While you can ask us in your comment to withhold from public review your personal identifying information, we cannot guarantee that we will be able to do so.

(Authority: 16 U.S.C. 6803(b))

Tanya M. Thrift,
BLM Boise District Manager.

[FR Doc. 2023-24516 Filed 11-6-23; 8:45 am]

BILLING CODE 4331-19-P